DEPARTMENT OF HEALTH AND HUMAN SERVICES

Health Resources and Services Administration

Agency Information Collection Activities: Submission to OMB for Review and Approval; Public Comment Request; Information Collection Request Title: Family-to-Family Health Information Center Feedback Surveys, OMB Number: 0906-xxxx-New

AGENCY: Health Resources and Services Administration (HRSA), Department of Health and Human Services (HHS).

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period.

DATES: Comments on this ICR must be received no later than January 7, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference, in compliance with Section 3506(c)(2)(A) of the Paperwork Reduction Act of 1995.

Information Collection Request Title: Family-to-Family Health Information Center Feedback Surveys, OMB Control Number: 0906-xxxx-New.

Abstract: The Family-to-Family Health Information Center (F2F HIC) program is authorized by the Social Security Act, Title V, § 501(c) (42 U.S.C. 701(c)), as amended by § 50501 of the Bipartisan Budget Act of 2018 (Pub. L. 115-123). The goal of the F2F HIC program is to promote optimal health for children and youth with special health care needs (CYSHCN) by facilitating their access to an effective health delivery system and by meeting the health information and support needs of families of CYSHCN and the professionals who serve them. F2F HICs are staffed by families of CYSHCN who have first-hand knowledge using health care services and programs. With this experience, these staff are uniquely positioned to provide support to other CYSHCN families and help other families like theirs navigate an often complex and confusing health care and social service system. They also serve as mentors and as a reliable source of health care information to other families.

During Fiscal Years (FY) 2003 to 2017, HRSA's Maternal and Child Health Bureau (MCHB) awarded approximately $4.9 million per FY in grants to support 51 F2F HICs in each of the 50 states and the District of Columbia. In FY 2017, 49 centers that reported data served and trained over 184,000 families and approximately 85,500 health professionals. For FYs 2018 and 2019, HRSA MCHB will award approximately $6 million per FY to support 59 F2F HICs: One each in the 50 states and the District of Columbia, 1 each in the 5 U.S. Territories (American Samoa, Guam, Puerto Rico, the Northern Mariana Islands and the U.S. Virgin Islands), and 3 to serve American Indians/Alaska Natives.

HRSA has developed feedback surveys to determine the extent to which F2F HICs provide service to families of CYSHCN and health professionals who serve such families. Each F2F HIC will administer the surveys and report data back to HRSA. Survey respondents will be asked to answer questions about how useful they found the information, assistance, or resources received from the F2F HICs. The purpose of this notice is to solicit comments regarding the proposed feedback surveys and the F2F HIC grant recipient activity instructions form.

Need and Proposed Use of the Information: Data from the feedback surveys will provide mechanisms to capture consistent performance data from F2F HIC grant recipients. The data will also allow F2F HICs to evaluate the effectiveness of their interventions and improve services provided to families and the providers who serve CYSHCN families.

Likely Respondents: Likely respondents are users of F2F HIC services, which include family members of CYSHCN and health professionals who serve such families.

Burden Statement: Burden in this context means the time expended by persons to generate, maintain, retain, disclose, or provide the information requested. This includes the time needed to review instructions; to develop, acquire, install, and utilize technology and systems for the purpose of collecting, validating, and verifying information; to process and maintain information; to disclose and provide information; to train personnel to be able to respond to a collection of information; to search data sources; to complete and review the collection of information; and to transmit or otherwise disclose the information.

The total annual burden hours estimated for this ICR are summarized in the table below.

Total Estimated Annualized Burden Hours
Form name | Number of respondents | Number of responses per respondent | Total responses | Average burden per response (in hours) | Total burden hours
F2F HIC Feedback Survey | 1,147 | 1 | 1,147 | 0.15 | 172
F2F HIC Grant Recipient Activity | 59 | 1 | 59 | 89 | 5,251
Total | 1,206 |  | 1,206 |  | 5,423

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2018-26524 Filed 12-6-18; 8:45 am]

BILLING CODE 4165-15-P